DEPARTMENT OF TRANSPORTATION

Federal Railroad Administration

[Docket No. FRA-2009-0038]

49 CFR Part 271

RIN 2130-AC11

Risk Reduction Program

AGENCY: Federal Railroad Administration (FRA), Department of Transportation (DOT).

ACTION: Proposed rule; notice of comment period reopening.

SUMMARY: On February 27, 2015, FRA published a Notice of Proposed Rulemaking (NPRM) that would require certain railroads to develop a Risk Reduction Program (RRP). On August 27, 2015, FRA held a public hearing to provide interested persons an opportunity to provide oral comments on the proposal. FRA is reopening the comment period for this proceeding to allow additional time for interested parties to submit written comments in response to views or information provided at the public hearing.

DATES: The comment period for this proceeding, consisting of the proposed rule published February 27, 2015, at 80 FR 10950, and the August 27, 2015, hearing, announced at 80 FR 45500, July 30, 2015, is reopened. Written comments must be received by September 18th, 2015. Comments received after that date will be considered to the extent possible without incurring additional expense or delay.

ADDRESSES: Written comments related to Docket No. FRA-2009-0038 may be submitted by any of the following methods:

• Web site: The Federal eRulemaking Portal, http://www.regulations.gov. Follow the Web site's online instructions for submitting comments.

• Fax: (202) 493-2251.

• Mail: Docket Management Facility, U.S. Department of Transportation, 1200 New Jersey Avenue SE., Room W12-140, Washington, DC 20590.

• Hand Delivery: Docket Management Facility, U.S. Department of Transportation, 1200 New Jersey Avenue SE., Washington, DC 20590, Room W12-140 on the ground level of the West Building, between 9 a.m. and 5 p.m., Monday through Friday, except Federal holidays.

Instructions: All submissions must include the agency name, docket name, and docket number or Regulatory Identification Number (RIN) for this rulemaking. Note that all comments received will be posted without change to http://www.regulations.gov, including any personal information provided. Please see the Privacy Act heading in the SUPPLEMENTARY INFORMATION section of this document for Privacy Act information related to any submitted comments or materials.

Docket: FRA has posted a transcript of the August 27, 2015, public hearing to the public docket in this proceeding. For access to the docket to read background documents or comments received, go to http://www.regulations.gov at any time or to the Docket Management Facility, U.S. Department of Transportation, 1200 New Jersey Avenue SE., Washington, DC 20590, Room W-12-140 on the ground level of the West Building, between 9 a.m. and 5 p.m., Monday through Friday, except Federal holidays.

FOR FURTHER INFORMATION CONTACT: Miriam Kloeppel, Staff Director, Risk Reduction Program Division, Office of Safety Analysis, FRA, 1200 New Jersey Avenue SE., Mail Stop 25, Washington, DC 20590, (202) 493-6224, Miriam.Kloeppel@dot.gov; or Elizabeth Gross, Trial Attorney, Office of Chief Counsel, FRA, 1200 New Jersey Avenue SE., Mail Stop 10, Washington, DC 20590, (202) 493-1342, Elizabeth.Gross@dot.gov.

SUPPLEMENTARY INFORMATION: The Rail Safety Improvement Act of 2008 requires the development and implementation of railroad safety risk reduction programs. Risk reduction is a comprehensive, system-oriented approach to safety that (1) determines an operation's level of risk by identifying and analyzing applicable hazards and (2) involves the development of plans to mitigate that risk. Each RRP is statutorily required to be supported by a risk analysis and a Risk Reduction Program Plan, which must include a Technology Implementation Plan and a Fatigue Management Plan.

FRA held a public hearing on August 27, 2015, to receive oral comments in response to an NPRM requesting public comment on a proposed risk reduction rulemaking. See 80 FR 10950, Feb. 27, 2015 and 80 FR 45500, July 30, 2015. FRA also reopened the comment period to allow time for interested parties to submit written comments after the public hearing, and comments were due September 10, 2015. To afford interested parties additional time and opportunity to submit written comments in response to views or information provided at the public hearing, FRA is again reopening the comment period in this proceeding. Written comments must be received by September 18th, 2015.

Privacy Act Statement

In accordance with 5 U.S.C. 553(c), DOT solicits comments from the public to better inform its rulemaking process. DOT posts these comments, without edit, including any personal information the commenter provides to www.regulations.gov, as described in the system of records notice (DOT/ALL-14 FDMS), which can be reviewed at www.dot.gov/privacy.

Issued in Washington, DC, on September 11th, 2015.
Patrick T. Warren,
Acting Associate Administrator for Railroad Safety and Chief Safety Officer.

[FR Doc. 2015-23233 Filed 9-11-15; 4:15 pm]

BILLING CODE 4910-06-P